DEPARTMENT OF ENERGY

Federal Energy Regulatory Commission

[Docket No. CP07-18-000]

Panhandle Eastern Pipe Line; Notice of Request Under Blanket Authorization

November 2, 2006.

Take notice that on October 30, 2006, Panhandle Eastern Pipe Line Company, LP (Panhandle), P.O. Box 4967, Houston, Texas 77210-4967, filed in Docket No. CP07-18-000, a prior notice request pursuant to sections 157.205 and 157.211(a)(2) of the Federal Energy Regulatory Commission's regulations under the Natural Gas Act, and Panhandle's blanket certificate issued in Docket No. CP83-83-000, to construct, own and operate certain facilities to be located in Wayne County, Michigan, all as more fully set forth in the application, which is on file with the Commission and open to public inspection. The filing may also be viewed on the Web at http://www.ferc.gov using the “eLibrary” link. Enter the docket number excluding the last three digits in the docket number field to access the document. For assistance, contact FERC at FERCOnlineSupport@gerc.gov or call toll-free, (886) 208-3676 or TYY, (202) 502-8659.

Specifically, Panhandle proposed facilities will consist of a 16-inch by 22-inch tee and 16-inch tap valve on its existing Edgerton 22-inch Line (No. 41-08-001-3000) and approximately 390 feet of 16-inch connecting pipeline between the downstream flange of Panhandle's proposed tap to the upstream flange of the delivery measurement station. The proposed facility will establish a new point of interconnection with Severstal North America, Inc.

Any questions regarding the application should be directed to William W. Grygar, Vice President, Rates and Regulatory Affairs, Panhandle Eastern Pipe Line Company, LP, 5444 Westheimer Road, Houston, Texas 77056 at (713) 989-7000.

Any person or the Commission's Staff may, within 45 days after the issuance of the instant notice by the Commission, file pursuant to Rule 214 of the Commission's Procedural Rules (18 CFR 385.214) a motion to intervene or notice of intervention and, pursuant to section 157.205 of the Commission's Regulations under the Natural Gas Act (NGA) (18 CFR 157.205) a protest to the request. If no protest is filed within the time allowed therefore, the proposed activity shall be deemed to be authorized effective the day after the time allowed for protest. If a protest is filed and not withdrawn within 30 days after the time allowed for filing a protest, the instant request shall be treated as an application for authorization pursuant to Section 7 of the NGA.

The Commission strongly encourages electronic filings of comments, protests, and interventions via the internet in lieu of paper. See 18 CFR 385.2001(a)(1)(iii) and the instructions on the Commission's Web site (http://www.ferc.gov) under the “e-Filing” link.

Magalie R. Salas,
Secretary.

[FR Doc. E6-18925 Filed 11-8-06; 8:45 am]

BILLING CODE 6717-01-P